DEPARTMENT OF HEALTH AND HUMAN SERVICES

Centers for Disease Control and Prevention

Disease, Disability, and Injury Prevention and Control Special Emphasis Panel: Preliminary Investigation of Health Effects of Occupational Exposures in Paducah Gaseous Diffusion Plant Workers, Program Announcement OH-99-143; Correction

AGENCY: Centers for Disease Control and Prevention, Department of Health and Human Services.

ACTION: Notice; correction.

SUMMARY: The Centers for Disease Control and Prevention, published a document in the Federal Register, March 19, 2002, (67 FR 12570), concerning Disease, Disability, and Injury Prevention and Control Special Emphasis Panel: Preliminary Investigation of Health Effects of Occupational Exposures in Paducah Gaseous Diffusion Plant Workers, Program Announcement OH-99-143. The meeting time has changed.

CONTACT PERSON FOR MORE INFORMATION: Kathleen Goedel, National Institute for Occupational Safety and Health, CDC, 4676 Columbia Parkway, M/S R-6, Cincinnati, Ohio 45226, telephone 513-841-4560.

Correction: In the Federal Register of March 19, 2002, (Volume 67, Number 53) [Notices] Page 12570, correct the “Times and Dates” to read:

Times and Dates:

2 p.m.-2:15 p.m., April 2, 2002 (Open)

2:20 p.m.-4 p.m., April 2, 2002 (Closed)

The meeting place, status, and purpose, announced in the original notice remain unchanged.

The Director, Management Analysis and Services Office, has been delegated the authority to sign Federal Register notices pertaining to announcements of meetings and other committee management activities, for both the Centers for Disease Control and Prevention and the Agency for Toxic Substances and Disease Registry.

Dated: March 21, 2002.
Alvin Hall,
Acting Director, Management Analysis and Services Office, Centers for Disease Control and Prevention.

[FR Doc. 02-7317 Filed 3-26-02; 8:45 am]

BILLING CODE 4163-19-P